FEDERAL COMMUNICATIONS COMMISSION

[DA 12-1171]

Notice of Debarment

AGENCY: Federal Communications Commission.

ACTION: Notice.

SUMMARY: The Enforcement Bureau (the “Bureau”) debars Ms. Gloria F. Harper from the schools and libraries universal service support mechanism (or “E-Rate Program”) for a period of three years. The Bureau takes this action to protect the E-Rate Program from waste, fraud, and abuse.

DATES: Debarment commences on the date Ms. Gloria F. Harper receives the debarment letter or August 29, 2012, whichever date comes first, for a period of three years.

FOR FURTHER INFORMATION CONTACT: Joy M. Ragsdale, Attorney Advisor, Federal Communications Commission, Enforcement Bureau, Investigations and Hearings Division, Room 4-C330, 445 12th Street SW., Washington, DC 20554. Joy Ragsdale may be contacted by telephone at (202) 418-1697 or by email at Joy.Ragsdale@fcc.gov. If Ms. Ragsdale is unavailable, you may contact Ms. Theresa Cavanaugh, Chief, Investigations and Hearings Division, by telephone at (202) 418-1420 and by email at Theresa.Cavanaugh@fcc.gov.

SUPPLEMENTARY INFORMATION: The Bureau debarred Ms. Gloria F. Harper from the schools and libraries service support mechanism for a period of three years pursuant to 47 CFR 54.8. Attached is the debarment letter, DA 12-1171, which was mailed to Ms. Harper and released on July 20, 2012. The complete text of the notice of debarment is available for public inspection and copying during regular business hours at the FCC Reference Information Center, Portal II, 445 12th Street SW., Room CY-A257, Washington, DC 20554. In addition, the complete text is available on the FCC's Web site at http://www.fcc.gov. The text may also be purchased from the Commission's duplicating inspection and copying during regular business hours at the contractor, Best Copy and Printing, Inc., Portal II, 445 12th Street SW., Room CY-B420, Washington, DC 20554, telephone (202) 488-5300 or (800) 378-3160, facsimile (202) 488-5563, or via email http://www.bcpiweb.com.

Federal Communications Commission.
Theresa Z. Cavanaugh,
Chief, Investigations and Hearings Division, Enforcement Bureau.

July 20, 2012

DA 12-1171

VIA CERTIFIED MAIL RETURN RECEIPT REQUESTED AND EMAIL

Ms. Gloria F. Harper, c/o Ms. Cynthia Marie Cimino, Federal Public Defender, Hale Boggs Federal Building, 500 Poydras Street, Room 318, New Orleans, LA 70130.

Re: Notice of Debarment, File No. EB-12-IH-0400

Dear Ms. Harper: The Federal Communications Commission (Commission) hereby notifies you that, pursuant to § 54.8 of its rules, you are prohibited from participating in the schools and libraries universal service support mechanism (E-Rate program) for three years from either the date of your receipt of this Notice of Debarment, or of its publication in the Federal Register, whichever is earlier in time (Debarment Date).¹

¹ 47 CFR 54.8(g). See also 47 CFR 0.111 (delegating authority to the Enforcement Bureau to resolve universal service suspension and debarment proceedings).

On March 22, 2012, the Commission's Enforcement Bureau (Bureau) sent you a Notice of Suspension and Initiation of Debarment Proceeding (Notice of Suspension) ² that was published in the Federal Register on April 23, 2012.³ The Notice of Suspension suspended you from participating in activities associated with or relating to the E-Rate program. It also described the basis for initiating debarment proceedings against you, the applicable debarment procedures, and the effect of debarment.

² Letter from Theresa Z. Cavanaugh, Acting Chief, Investigations and Hearings Division, Enforcement Bureau, Federal Communications Commission, to Ms. Gloria F. Harper, Notice of Suspension and Initiation of Debarment Proceeding, 27 FCC Rcd 2888 (Enf. Bur. 2012) (Attachment 1).

³ 77 Fed Reg 24202 (Apr. 23, 2012).

As discussed in the Notice of Suspension, in June 2011 you pled guilty to conspiring with others to fraudulently obtain $4.5 million in E-Rate contracts through your companies, Computer Training and Associates and Global Networking Technologies.⁴ In addition, you admitted to bribing school officials in exchange for control of the E-Rate application and competitive bidding process.⁵ Your fraudulent scheme adversely affected 20 schools and school districts located throughout six states.⁶ Pursuant to § 54.8(c) of the Commission's rules, your conviction of criminal conduct in connection with the E-Rate program is the basis for this debarment.⁷

⁴ United States v. Gloria F. Harper, Criminal Docket No. 2:10-cr-00326-CJB-ALC, Plea Agreement at 3-5 (E.D. La. entered June 6, 2011).

⁵ Id. at 4.

⁶ Id. at 5. See Appendix.

⁷ 47 CFR 54.8(c).

In accordance with the Commission's debarment rules, you were required to file with the Commission any opposition to your suspension or its scope, or to your proposed debarment or its scope, no later than 30 calendar days from either the date of your receipt of the Notice of Suspension or of its publication in the Federal Register, whichever date occurred first.⁸ The Commission did not receive any such opposition.

⁸ 47 CFR 54.8(e)(3), (4). Any opposition had to be filed no later than April 21, 2012.

For the foregoing reasons, you are debarred from participating in the E-Rate program for three years from the Debarment Date.⁹ During this period, you are excluded from participating in any activities associated with or related to the E-Rate program, including the receipt of funds or discounted services through the E-Rate program, or consulting with, assisting, or advising applicants or service providers regarding the E-Rate program.¹⁰

⁹ Id. 54.8(e)(5), (g).

¹⁰ Id. 54.8(a)(1), (5), (d).

¹¹ United States v. Gloria F. Harper, Criminal Docket No. 2:10-cr-00326-CJB-ALC, Factual Basis at 2-3.

Sincerely,

Theresa Z. Cavanaugh,

Chief, Investigations and Hearings Division, Enforcement Bureau.

cc: Johnnay Schrieber, Universal Service Administrative Company (via email)

Rashann Duvall, Universal Service Administrative Company (via email)

Juan Rodriguez, Antitrust Division, United States Department of Justice (via email)

Stephanie Toussaint, Antitrust Division, United States Department of Justice (via email)

APPENDIX
Schools and School Districts ¹¹ | City and State
All Saints School | New Orleans, LA.
St. Augustine High School | New Orleans, LA.
St. David School | New Orleans, LA.
St. Monica School | New Orleans, LA.
Gould Public School District | Gould, AR.
Holly Grove Public School District | Holly Grove, AR.
Antioch Center—St. Stephen's Lutheran Church | Antioch, IL.
Fairfield Center | Round Lake Beach, IL.
Ingleside Center—Ingleside United Methodist Church | Ingleside, IL.
St. Mary's Center—Libertyville Covenant Church | Libertyville, IL.
Waukegan Center | Waukegan, IL.
Zion Center—Zion Benton High School | Zion, IL.
Niles Terrace Center | Waukegan IL.
Wilmer—Hutchins Independent School District | Dallas, TX.
Innovation Child Development Center | Tallahassee, FL.
Innovation School of Excellence | Tallahassee, FL.
Capital City School (also known as Covenant Academy Preparatory School) | Tallahassee, FL.
Whole Word Christian Academy | Miami, FL.
Twin Buttes Elementary School | Halliday, ND.
White Shield School | Roseglen, ND.

[FR Doc. 2012-18430 Filed 7-27-12; 8:45 am]

BILLING CODE 6712-01-P